ENVIRONMENTAL PROTECTION AGENCY

[FRL-8513-4]

Clean Air Act Advisory Committee (CAAAC): Notice of Meeting

AGENCY: Environmental Protection Agency.

ACTION: Notice of meeting.

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

DATES AND ADDRESSES: Open meeting notice; Pursuant to 5 U.S.C. App. 2 Section 10(a)(2), notice is hereby given that the Clean Air Act Advisory Committee will hold its next open meeting on Thursday, January 31, 2008, from 8:30 a.m. to 4 p.m. at the Crown Plaza Crystal City Hotel at 1480 Crystal Drive, in Arlington, Virginia. Seating will be available on a first come, first served basis. The Economic Incentives and Regulatory Innovations subcommittee will meet on January 30, 2008, from 8:30 a.m. to 12 p.m. The Permits, New Source Review and Toxics subcommittee will meet on January 30, 2008, from approximately 12:45 p.m. to 3:30 p.m. The agenda for the CAAAC full committee meeting on January 31, 2008, will be posted on the Clean Air Act Advisory Committee Web site at http://www.epa.gov/oar/caaac/.

Inspection of Committee Documents: The Committee agenda and any documents prepared for the meeting will be publicly available at the meeting. Thereafter, these documents, together with CAAAC meeting minutes, will be available by contacting the Office of Air and Radiation Docket and requesting information under docket OAR-2004-0075. The Docket office can be reached by telephoning 202-260-7548; Fax 202-260-4400.

FOR FURTHER INFORMATION CONTACT: Concerning the CAAAC, please contact Pat Childers, Office of Air and Radiation, U.S. EPA (202) 564-1082, Fax (202) 564-1352 or by mail at U.S. EPA, Office of Air and Radiation (Mail code 6102 A), 1200 Pennsylvania Avenue, NW., Washington, DC 20004. For information on the Subcommittees, please contact the following individuals: (1) Permits/NSR/Toxics Integration—Liz Naess, (919) 541-1892; (2) Economic Incentives and Regulatory Innovations—Carey Fitzmaurice, (202) 564-1667; and (3) Mobile Source Technical Review—John Guy, (202) 343-9276. Additional Information on these meetings, CAAAC, and its Subcommittees can be found on the CAAAC Web site: http://www.epa.gov/oar/caaac/.

For information on access or services for individuals with disabilities, please contact Mr. Pat Childers at (202) 564-1082 or childers.pat@epa.gov. To request accommodation of a disability, please contact Mr. Childers, preferably at least 10 days prior to the meeting, to give EPA as much time as possible to process your request.

Dated: December 28, 2007.
Pat Childers,
Designated Federal Official, Clean Air Act Advisory Committee, Office of Air and Radiation.

[FR Doc. E7-25573 Filed 1-2-08; 8:45 am]

BILLING CODE 6560-50-P